ENVIRONMENTAL PROTECTION AGENCY

[OAR-2004-0071; FRL-7787-9]

Agency Information Collection Activities; Submission to OMB for Review and Approval; Comment Request; Information Collection Activities Associated With the Best Workplaces for Commuters Program, EPA ICR Number 2053.01

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request a new collection. This ICR describes the nature of the information collection and its estimated burden and cost.

DATES: Additional comments may be submitted on or before August 16, 2004.

ADDRESSES: Submit your comments, referencing docket ID number OAR-2004-0071 to (1) EPA online using EDOCKET (our preferred method), by email to Group A-AND-R-DOCKET@EPA.gov, or by mail to: EPA Docket Center, Environmental Protection Agency,Office of Air and Radiation Docket (Mail Code 6102T), 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Elizabeth Lonoff, Transportation and Regional Programs Division (Mail Code 6406J), Environmental Protection Agency, 1200 Pennsylvania Ave., NW., Washington, DC 20460; telephone number: 202-343-9147; fax number: 202-343-2800; e-mail address: lonoff.elizabeth@epa.gov.

SUPPLEMENTARY INFORMATION: EPA has submitted the following ICR to OMB for review and approval according to the procedures prescribed in 5 CFR 1320.12. On April 9, 2002 (67 FR 17069), EPA sought comments on this ICR pursuant to 5 CFR 1320.8(d). EPA received no comments.

EPA has established a public docket for this ICR under Docket ID No. OAR-2004-0071, which is available for public viewing at the Office of Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Air and Radiation Docket is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Information Collection Activities Associated with the Best Workplaces for Commuters.

Abstract: Best Workplaces for Commuters ℠ (BWC; originally known as the Commuter Choice Leadership Initiative) is a unique designation granted by the U.S. Environmental Protection Agency (EPA) and the U.S. Department of Transportation (DOT) to employers that offer superior commuter benefits to their employees. EPA is partnering with a variety of national, state, regional, and local organizations to challenge U.S. employers to meet a National Standard of Excellence in commuter benefits and to recognize those that do as “Best Workplaces for Commuters.” The program highlights the environmental and congestion relief benefits along with the potential financial benefits of offering employee commuter benefits, such as improved recruiting and retention, tax savings, and other cost savings. EPA works to gain public recognition for companies recognized as Best Workplaces for Commuters and provides networking, opportunities training, web-based tools, and one-on-one assistance for its partners. Employers wishing to join BWC are asked to submit the BWC Application documenting their intent to provide such benefits, to submit an Annual Check-in Form confirming their continued participation and updating contact information, and to disseminate a Employee Survey when they are randomly selected by EPA. This data will enable EPA to better understand commuting habits, to provide support for and recognize BWC Employers, and to monitor and measure the success of BWC. All data collection is voluntary and will be done electronically or by fax except where a participant doesn't have access. No personal information will be collected, and all data will be aggregated for analysis.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 0.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Work Site contacts of voluntarily participating BWC Employers, BWC employees at Work Sites randomly selected for annual survey, and members of the year's control group.

Estimated Number of Respondents: 52,566.

Frequency of Response: Annually.

Estimated Total Annual Hour Burden: 24,052.

Estimated Total Annual Cost: $1,284,142, includes $1,064 annualized O&M costs.

Changes in the Estimates: This is a new information collection, and, as such, this section does not apply.

Dated: July 9, 2004.
Oscar Morales,
Director, Collection Strategies Division.

[FR Doc. 04-16209 Filed 7-15-04; 8:45 am]

BILLING CODE 6560-50-P